DEPARTMENT OF HOUSING AND URBAN DEVELOPMENT

[Docket No. FR-4912-N-23]

Notice of Availability of the Draft Environmental Impact Statement for the Development of Vista Village (formerly Cedar Grove) Affordable Housing in Tahoe Vista, Placer County, CA

AGENCY: Office of the Assistant Secretary for Community Planning and Development, HUD.

ACTION: Notice.

SUMMARY: HUD gives notice to the public, agencies, and Indian tribes that Placer County, CA makes available to the public for comment the Draft Environmental Impact Statement/Draft Environmental Impact Report (DEIS/DEIR) for the development of Vista Village (formerly Cedar Grove) Affordable Housing in Tahoe Vista, Placer County, CA. Placer County prepared the DEIS/DEIR under its authority as the Responsible Entity for compliance with the National Environmental Policy Act (NEPA) in accordance with 24 CFR 58.4 and under its authority as lead agency in accordance with the California Environmental Quality Act (CEQA). This project is subject to the Tahoe Regional Planning Agency (TRPA) regulations for the preparation of an Environmental Impact Statement (EIS). This notice is given in accordance with the Council on Environmental Quality regulations at 40 CFR parts 1500-1508. HUD Community Development Block Grant (CDBG) and HOME Investment Partnership funds will be used for the development of affordable housing. The purpose and need for this project is to provide affordable workforce housing in order to sustain the existing economy and meet the housing needs of the North Tahoe area, as outlined in the document.

DATES: Comments Due Date: Comments must be received within 45 days from the date this notice is published. Written comments on the DEIS/DEIR should be addressed to the individual named below under the heading FOR FURTHER INFORMATION CONTACT.

Public Meeting: Several public comment meetings will be held during the comment period in order to ensure public participation. The first Placer County public meeting will be held at a special meeting of the Placer County Planning Commission on April 26, 2007, at 11:15 a.m. The public meeting will be held at the following location: Granlibakken Resort, 625 Granlibakken Road, Tahoe City, CA 96145, For the time see the Placer County Web site.

TRPA will hold several public meetings on Vista Village. The first one will be: May 9, 2007, at the TRPA Advisory Planning Committee, at the TRPA Office, 128 Market Street, Stateline, NV 89449.

The second meeting will be: May 23, 2007, at the TRPA Governing Board, at the North Tahoe Conference Center, 8318 North Lake Blvd., Kings Beach, CA 96143.

FOR FURTHER INFORMATION CONTACT:

Joanne Auerbach, Placer County NEPA Certifying Officer, Housing Program Coordinator, Placer County Redevelopment Agency, 3091 County Center Dr., Suite 260, Auburn, CA 95603, Phone: 530/745-3167, FAX: 530/745-3152, E-mail: jauerbac@placer.ca.gov or;

Maywan Krach, Assistant Technician, Environmental Coordination Services, Community Development Resources Center, 3091 County Center Drive, Suite 190, Auburn, CA 95603, Phone: 530/745-3132, FAX: 530/745-3003, E-mail: cdraecs@placer.ca.gov.

The DEIS/DEIR/DEIS is available on the Internet and can be viewed or downloaded at: http://www.placer.ca.gov or http://www.trpa.org

Copies of the DEIS/DEIR/DEIS are also available for review or viewing at the following locations:

Placer County Planning Department, Community Development Resource Center, 3091 County Center Drive, Auburn, CA 95603.

Placer County Planning Department, Tahoe Office, 565 West Lake Boulevard, Tahoe City, CA 96145.

Kings Beach Public Library, 301 Secline Street, Kings Beach, CA 96148.

SUPPLEMENTARY INFORMATION: A Notice of Intent to prepare a draft EIS was published in the Federal Register on October 21, 2005, under the name of Cedar Grove Affordable Housing Project. The proposed action is a proposal by Pacific West Communities to develop approximately 12.2 acres in the Tahoe Vista area of Placer County for an affordable housing complex. The project site is located on the Kings Beach 7.5-minute U.S.G.S. topographic quadrangle map, north of State Route 28 and west of National Avenue in Tahoe Vista, California. The site is currently undeveloped, forested land with dense stands of pine, fir, and cedar. Adjacent properties to the east and west have been developed for residential housing. The North Tahoe Regional Park is directly north of the project site, and the Mourelatos resort is to the south.

This project would require a TRPA Plan Area Statement (PAS) Amendment for the Tahoe Estates PAS 021 Special Area 6. Alternative A, B, and C would also require an amendment to the Tahoe Vista Community Plan for the annexation of the land.

This is a combined document—an EIR under the CEQA Guidelines, an EIS under NEPA and HUD's at 24 CFR Part 58, and an EIS under TRPA's Code of Regulations.

Multiple alternatives were identified and discussed via the scoping process. After preliminary review, five alternatives were considered for full evaluation. They are:

Alternative A—152 Units

Coverage Ratio: 41.7%

Population: 400 (Assuming 1 person/bedroom)

Alternative B—144 Units

Coverage Ratio: 50.0% for 96 units of affordable

Coverage Ratio: 30.0% for 48 units of moderate

Population: 368 (Assuming 1 person/bedroom)

Alternative C—132 Units

Coverage Ratio: 38.6%

Population: 364 (Assuming 1 person/bedroom)

Alternative D—72 Units

Coverage Ratio: 30%

Population: 276 (Assuming 1 person/bedroom)

Rental Units: 64, affordable to 50-80% of Area Median Income

For Sale Units: 8, affordable to Moderate Income (120% of Area Median Income)

Alternative E—No Project

No Action. If nothing were done, no additional affordable housing would be built. The project site would remain vacant.

Actions common to all alternatives, except E, include traffic, water, sewer, wastewater, transit, noise and scenic quality.

The DEIS/DEIR addresses the following environmental issues: hydrology and water quality, soils and geology, air quality, noise, transportation, vegetation, wildlife and scenic resources, cultural resources, land use, growth inducement, land capacity and coverage, public services, public utilities and affordable housing. None of these rise to a level that they can not be mitigated. Without counting Alternative E (No Action), the Environmentally Recommended Alternative is D.

Questions may be directed to the individual named above under the heading FOR FURTHER INFORMATION CONTACT.

Dated: April 17, 2007.
Pamela H. Patenaude,
Assistant Secretary for Community Planning and Development.

[FR Doc. E7-8138 Filed 4-27-07; 8:45 am]

BILLING CODE 4210-27-P